SUSQUEHANNA RIVER BASIN COMMISSION

Notice of Public Hearing and Commission Meeting

AGENCY: Susquehanna River Basin Commission.

ACTION: Notice of public hearing and commission meeting.

SUMMARY: The Susquehanna River Basin Commission will hold a public hearing as part of its regular business meeting beginning at 8:30 a.m. on December 4, 2008, in Bel Air, Maryland. At the public hearing, the Commission will consider: (1) Approval of certain water resources projects; (2) a request for extension of an emergency certificate issued on October 30, 2008; and (3) adjustments to the SRBC Project Fee Schedule. Details concerning the matters to be addressed at the public hearing and business meeting are contained in the Supplementary Information section of this notice.

DATES: December 4, 2008.

ADDRESSES: Harford Community College—Chesapeake Center, 401 Thomas Run Road, Bel Air, Maryland 21015.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net.

SUPPLEMENTARY INFORMATION: In addition to the public hearing and its related action items identified below, the business meeting also includes actions or presentations on the following items: (1) “Water for Maryland's Future: What We Must Do Today” by SRBC Maryland Member Dr. Robert Summers, (2) present hydrologic conditions of the basin, (3) a revised Comprehensive Plan for the Water Resources of the Susquehanna River Basin, (4) a final rulemaking action regarding consumptive use by gas well development projects, (5) certain grant applications and contracts; (6) the FY 2008 Audit Report; (7) an additional expenditure of up to $500,000 for the Whitney Point Lake Section 1135 Project Modification, and (8) an expenditure of up to $65,000 to replace three main computer servers. The Commission will also hear a Legal Counsel's report.

Public Hearing—Projects Scheduled for Action

1. Project Sponsor and Facility: Chesapeake Appalachia, LLC (for operations in Broome, Chenango, Cortland, Delaware, Steuben, and Tomkins Counties, N.Y., and Blair, Cambria, Cameron, Centre, Clearfield, Clinton, Columbia, Elk, Lackawanna, Luzerne, Lycoming, Sullivan, Tioga, and Wayne, Counties, Pa.) (previously approved for operations in Chemung and Tioga Counties, N.Y., and Bradford, Susquehanna, and Wyoming Counties, Pa.). Modification to increase consumptive water use from 2.075 mgd (peak day) up to 20.000 mgd from various surface water sources and the following previously approved public water suppliers: Towanda Municipal Authority, Aqua Pennsylvania, Inc.—Susquehanna Division, Canton Borough Authority, and Borough of Troy.

2. Project Sponsor and Facility: Chief Oil & Gas LLC (for operations in Clearfield County, Pa.). Application for consumptive water use of up to 5.000 mgd from various surface water sources and the following public water suppliers: BCI Municipal Authority and Jersey Shore Joint Water Authority.

3. Project Sponsor and Facility: Chief Oil & Gas LLC (Clearfield Creek), Boggs Township, Clearfield County, Pa. Application for surface water withdrawal of up to 2.000 mgd.

4. Project Sponsor and Facility: Chief Oil & Gas, LLC (Pine Creek), Cummings Township, Lycoming County, Pa. Application for surface water withdrawal of up to 0.099 mgd.

5. Project Sponsor and Facility: Citrus Energy (for operations in Wyoming County, Pa.). Application for consumptive water use of up to 5.000 mgd from various surface water sources.

6. Project Sponsor and Facility: Citrus Energy (North Branch Susquehanna River), Washington Township, Wyoming County, Pa. Application for surface water withdrawal of up to 0.499 mgd.

7. Project Sponsor and Facility: Dillsburg Area Authority, Franklin Township, York County, Pennsylvania. Application for groundwater withdrawal of 0.022 mgd from Well 1.

8. Project Sponsor and Facility: Dillsburg Area Authority, Franklin Township, York County, Pennsylvania. Application for groundwater withdrawal of 0.101 mgd from Well 3.

9. Project Sponsor and Facility: EXCO-North Coast Energy, Inc. (for operations in Centre County, Pa.). Application for consumptive water use of up to 5.000 mgd from various water sources. -

10. Project Sponsor and Facility: EXCO-North Coast Energy, Inc. (unnamed tributary to Sandy Run), Burnside Township, Centre County, Pa. Application for surface water withdrawal of up to 0.300 mgd.

11. Project Sponsor and Facility: Fortuna Energy Inc. (Towanda Creek), Franklin Township, Bradford County, Pa. Application for surface water withdrawal of up to 0.250 mgd.

12. Project Sponsor and Facility: J-W Operating Company (for operations in Cameron, Clearfield, and Elk Counties, Pa.). Application for consumptive water use of up to 4.500 mgd from various surface water sources and the following public water supplier: Emporium Water Company.

13. Project Sponsor and Facility: J-W Operating Company (Abandoned Mine Pool), Shippen Township, Cameron County, Pa. Application for surface water withdrawal of up to 0.090 mgd.

14. Project Sponsor: J-W Operating Company (Driftwood Branch—Sinnemahoning Creek), Lumber Township, Cameron County, Pa. Application for surface water withdrawal of up to 0.245 mgd.

15. Project Sponsor and Facility: J-W Operating Company (Sterling Run), Lumber Township, Cameron County, Pa. Application for surface water withdrawal of up to 0.026 mgd.

16. Project Sponsor: KBK-HR Associates LLC. Project Facility: Honey Run Golf Club, Dover Township, York County, Pa. Application for consumptive water use of up to 0.382 mgd.

17. Project Sponsor: KBK-HR Associates LLC. Project Facility: Honey Run Golf Club, Dover Township, York County, Pa. Application for surface water withdrawal of up to 0.382 mgd from Honey Run.

18. Project Sponsor: KBK-HR Associates LLC. Project Facility: Honey Run Golf Club, Dover Township, York County, Pa. Application for surface water withdrawal of up to 1.440 mgd from Little Conewago Creek.

19. Project Sponsor and Facility: New Oxford Foods, LLC, New Oxford Borough, Adams County, Pa. Applications for consumptive water use of up to 0.380 mgd and groundwater withdrawal of 0.035 mgd from Well 1.

20. Project Sponsor: PPL Holtwood, LLC. Project Facility: Holtwood Hydroelectric Station, Martic and Conestoga Townships, Lancaster County, and Chanceford and Lower Chanceford Townships, York County, Pa. Applications for amendment to existing FERC license (FERC Project No. 1881) and for redevelopment of the project with modification of its operations on the lower Susquehanna River, including the addition of a second power station and associated infrastructure.

21. Project Sponsor and Facility: Rex Energy Corporation (Upper Little Surveyor Run), Girard Township, Clearfield County, Pa. Application for surface water withdrawal of up to 0.400 mgd.

22. Project Sponsor and Facility: Rex Energy Corporation (Lower Little Surveyor Run), Girard Township, Clearfield County, Pa. Application for surface water withdrawal of up to 0.400 mgd.

23. Project Sponsor: Sunbury Generation LP. Project Facility: Sunbury Generation Facility, Monroe Township and Shamokin Dam Borough, Snyder County, Pa. Applications for consumptive water use of up to 6.025 mgd and surface water withdrawal of up to 354.000 mgd.

24. Project Sponsor and Facility: Turm Oil, Inc. (for operations in Susquehanna County. Pa.). Application for consumptive water use of up to 5.000 mgd from various surface water sources and the following public water suppliers: Dushore Water Authority and Towanda Municipal Authority.

25. Project Sponsor and Facility: Turm Oil, Inc. (Deer Lick Creek), Rush Township, Susquehanna County, Pa. Application for surface water withdrawal of up to 0.249 mgd.

26. Project Sponsor and Facility: Turm Oil, Inc. (East Branch Wyalusing Creek), Rush Township, Susquehanna County, Pa. Application for surface water withdrawal of up to 0.249 mgd.

27. Project Sponsor and Facility: Turm Oil, Inc. (Elk Lake Stream), Rush Township, Susquehanna County, Pa. Application for surface water withdrawal of up to 0.249 mgd.

28. Project Sponsor and Facility: Turm Oil, Inc. (Main Branch Wyalusing Creek), Rush Township, Susquehanna County, Pa. Application for surface water withdrawal of up to 0.249 mgd.

29. Project Sponsor and Facility: Ultra Resources (for operations in Tioga and Potter Counties, Pa.). Application for consumptive water use of up to 4.990 mgd from various surface water sources and the following public water supplier: Galeton Borough Authority.

30. Project Sponsor and Facility: Ultra Resources (Cowanesque River), Deerfield Township, Tioga County, Pa. Application for surface water withdrawal of up to 0.217 mgd.

31. Project Sponsor and Facility: Ultra Resources (Elk Run), Gaines Township, Tioga County, Pa. Application for surface water withdrawal of up to 0.020 mgd.

32. Project Sponsor and Facility: Ultra Resources (Pine Creek), Pike Township, Potter County, Pa. Application for surface water withdrawal of up to 0.430 mgd.

Public Hearing—Request To Extend Emergency Certificate

1. CAN DO, Inc., Hazle Township, Luzerne County, Pa.—Request to again extend the emergency use of Site 14 Test Well to serve Humbolt Industrial Park, last extended at the September 11, 2008, meeting.

Public Hearing—Project Fee Schedule

1. The Commission will consider CPI and other adjustments to its Project Fee Schedule as directed by Resolution 2005-03.

Opportunity To Appear and Comment

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@srbc.net or Stephanie L. Richardson, Secretary to the Commission, e-mail: srichardson@srbc.net. Comments mailed or electronically submitted must be received prior to December 4, 2008, to be considered.

Authority: Public Law 91-575, 84 Stat. 1509 et seq., 18 CFR Parts 806, 807, and 808.

Dated: November 4, 2008.
Thomas W. Beauduy,
Deputy Director.

[FR Doc. E8-27319 Filed 11-17-08; 8:45 am]

BILLING CODE 7040-01-P